DEPARTMENT OF AGRICULTURE

Rural Business-Cooperative Service

Rural Housing Service

Rural Utilities Service

[DOCKET #: RBS-25-NONE-0001]

Amendment of Rural Development Funding Opportunities Pursuant to the Executive Order “Ending Radical and Wasteful Government DEI Programs and Preferencing”; Correction of Rural Energy for America Funding Notice

AGENCY: Rural Business-Cooperative Service, Rural Housing Service, Rural Utilities Service, Department of Agriculture.

ACTION: Notice.

SUMMARY: The United States Department of Agriculture, Rural Development (RD), which is comprised of the Rural Business-Cooperative Service (RBCS), Rural Utilities Service (RUS), and Rural Housing Service (RHS), announces that it is amending 14 program funding opportunities to remove references to the prior Administration's key priorities and DEI (diversity, equity, and inclusion)-related scoring criteria to bring them into compliance with the Executive Order, “Ending Radical And Wasteful Government DEI Programs And Preferencing”, issued on January 20, 2025. This notice also confirms that previous Administration key priorities and discretionary points will not be considered during application scoring and makes clear that applicants who already have applied need not reapply. This notice also corrects the Rural Energy for America funding notice to include an omitted funding source.

DATES: This notice is applicable March 25, 2025.

ADDRESSES: All addresses remain the same as in the original funding opportunity announcements.

SUPPLEMENTARY INFORMATION:

A. Overview

Under the previous Administration, RD established three key priorities that were made public and incorporated into program activities. The RD Key Priorities were incorporated into funding notices in the following manner. First, a general reference to the Administration's key priorities was included in the introductory section of most RD funding notices.

The previous Administration's RD Key Priorities for discretionary points were generally:

(a) Assisting rural communities to recover economically through more and better market opportunities and through improved infrastructure. Applicant would receive priority points if theproject were located in or serving a rural community whose economic well-being ranks in the most distressed tier (distress score of 80 or higher) of the Distressed Communities Index using the Distressed Communities Look-Up Map available at rd.usda.gov/priority-points.

(b) Ensuring all rural residents have equitable access to RD programs and benefits from RD funded projects. Using the Social Vulnerability Index (SVI) Look-Up Map (available at rd.usda.gov/priority-points), an applicant would receive priority points if:

• The project were located in or serving a community with score 0.75 or above on the SVI;

• The applicant were a federally recognized tribe, including Tribal instrumentalities and entities that are wholly owned by Tribes; or

• Was a project where at least 50 percent of the project beneficiaries were members of federally Recognized Tribes and non-Tribal applicants included a Tribal Resolution of Consent from the Tribe or Tribes that the applicant was proposing to serve.

• The application was from or benefiting a Rural Partner's Network's (RPN) community network. Currently RPN Networks exist in Alaska, Arizona, Georgia, Kentucky, Mississippi, Nevada, New Mexico, North Carolina, Puerto Rico, West Virginia and Wisconsin. Using the Community Look-Up map (available at rd.usda.gov/priority-points) the applicant could determine if a project qualified for priority points.

(c) Reducing climate pollution and increasing resilience to the impacts of climate change through economic support to rural communities. Using the Disadvantaged Community and Energy Community Look-Up Map (available at rd.usda.gov/priority-points), applicants would receive priority in one of the three ways:

• If the project were located in or served a Disadvantaged Community as defined by the Climate and Economic Justice Screening Tool (CEJST), from the White House Council on Environmental Quality (CEQ);

• If the project were located in or served an Energy Community as defined by the Inflation Reduction Act of 2022 (Pub. L. 117-169) (IRA); and

• If applicants could demonstrate through a written narrative how the proposed climate-impact projects would improve the livelihoods of community residents and meet pollution mitigation or clean energy goals.

Second, some, but not all, programs included discretionary points related to one or more of the key priorities. These points were, or could be, considered as part of the application scoring.

RD has identified 14 program funding opportunities, listed in Table 1, that reference the prior Administration's key priorities and/or DEI-related scoring criteria for which application deadlines either closed after January 20, 2025, are currently accepting funding applications, or for which there are rolling deadlines.

Table 1
Agency | Title | Funding opportunity/ assistance listing No. | Federal Register notice | Date of publication | Reference to key priorities | Scoring criteria | Closing date
1. RUS | Distance Learning & Telemedicine Grants (DLT) | RUS-25-01-DLT, 10.855 | 90 FR 589 | 1/6/2025 | Overview | Section E(1)(d), 90 FR 593 | 3/6/25.
2. RUS | High Energy Cost Grants | RD-RUS-HECG25, 10.859 | n/a | 12/30/2024 via grants.gov | Sect 1.1 | Section 5.1 (b)(1)(i)-(iv) | 2/28/25.
3. RUS | Decentralized Water System Grants (DWS) | RDRUS-25-DWS, 10.862 | n/a | 1/1/25 via grants.gov | Sect. 1.1 | Section 5.1 (a)-(c) | 3/3/25.
4. RBCS | REAP-RES/EEI Farm Bill (>25%) | RDBCP-REAP-RES-EEI-2025-2026-2027, 10.868 | 89 FR 83449 | 10/16/24 | Overview | Section E 1e, 89 FR 83453 | 3/31/25.
5. RBCS | REAP—Energy Audit & Renewable Energy Development Assistance Grants | RDBCP-REAP-RES-EEI-2025-2026-2027, 10.868 | 89 FR 83449 | 10/16/24 | Overview | Section E(1)(b)(ii) | 1/31/25.
6. RBCS | Rural Business Development Grant (RBDG) | RDBCP-RBDG-2025, 10.351 | 89 FR 83827 | 10/18/24 | Overview | Section E 1(c)(1)-(3), 89 FR 83830 | 2/28/25.
7. RBCS | Rural Economic Development Loan and Grant (REDLG) | RD-RBCS-25-REDLG, 10.854 | 89 FR 68132; 89 FR 92086 (amended notice) | 8/23/24 | Overview | Section E 2(a)-(c), 89 FR 68135 | Varies by quarter last opening is 6/30/25.
8. RBCS | Rural Business Development Grant Program To Provide Technical Assistance for Rural Transportation Systems (RBDG-RTS) | RDBCP-RBDG-2025, 10.351 | 90 FR 584 | 1/6/25 | Overview | Section E 2(a)-(c), 89 FR 587 | 4/7/25.
9. RBCS | Timber Production Expansion Guaranteed Loan Program (TPEP) | RBS-24-BUSINESS-0008, 10.385 | 89 FR 104972 | 12/26/24 | Overview | Section E 1(a)-(c), 89 FR 104974 | Until expended.
10. RBCS | Intermediate Relending Program (IRP) | RBS-24-BUSINESS-0011, 10.767 | 89 FR 64867 | 8/8/24 | Overview | Section E1(a)(1)-(3), 89 FR 64869 | Varies by quarter last opening is 6/30/25.
11. RUS | EP-313A | RUS-24-ELECTRIC-0032, 10.850 | 89 FR 85148 | 1/6/25 | Overview, 89 FR 85148 | Not considered | 1/31/25.
12. RUS | Community Connect Grants | RDRUS-CC-2025, 10.863 | 90 FR 1946 | 1/10/25 | Overview | Not considered | 4/21/25.
13. RUS | Calendar Year 2022 Disaster Water Grants | RUS-23-WATER-0009, 10.760 | 88 FR 40775 | 6/22/23 | Overview, 88 FR 40775 | Section E1 (Disadvantaged Communities) | Until expended.
14. RBCS | Rural Micro-entrepreneur Assistance Program (RMAP) | RD-RBCS-25-RMAP, 10.870 | 89 FR 67411 | 8/20/24 | Overview, 89 FR 67412 | Not considered | Varies by quarter last opening is 6/30/25.

B. Amendments Related to Previous Administration Key Priorities and DEI-Related Scoring Criteria

The 14 program funding opportunities identified in Table 1 are hereby amended to remove reference to or consideration of those Key Priorities. In addition, if a program notice referenced discretionary points either from an Administrator or State Director for meeting the Key Priorities, those discretionary points will not be available or awarded.

C. Guidance to Applicants

Applicants who have already submitted their applications do not need to withdraw, submit a new or revised application, or supplement their application. The program will review the application consistent with this notice.

Applicants in a program for which a deadline has not otherwise passed may withdraw, resubmit, or supplement their application before the deadline has passed.

Applicants may direct any questions related to the program funding opportunity to the “address” or “further contact information” provided in the original notice.

D. Correction of Notice of Funding Opportunity for the Rural Energy for America Program for Fiscal Years 2025, 2026, and 2027

The REAP has two types of funding assistance: RES/EEI assistance and EA and REDA grants. On October 16, 2024, the RBCS published a notice in the Federal Register, Notice of Funding Opportunity for the Rural Energy for America Program for Fiscal Years 2025, 2026, and 2027, 89 FR 83449. That notice omitted reference to the availability of funding under the 2018 Farm Bill. That notice is hereby corrected as follows:

In Section B (Federal Award Information) under “Available Funding,” on page 83450, after the first paragraph in the second column, the following is added: “c. Farm Bill funding—Approximately $50 million per Federal FY.”

Any questions related to the amendment of this funding notice should be directed to the “address” and “information contact” listed on the original notice.

Jacqueline Ponti-Lazaruk,
Acting Deputy Under Secretary, USDA Rural Development.

[FR Doc. 2025-04988 Filed 3-24-25; 8:45 am]

BILLING CODE 3410-XY-P